NATIONAL SCIENCE FOUNDATION

Advisory Committee for Geosciences: Notice of Meeting

In accordance with the Federal Advisory Committee Act (Pub. L. 92-463, as amended), the National Science Foundation (NSF) announces the following meeting:

Name and Committee Code: Advisory Committee for Geosciences (1755).

Date and Time: April 12, 2017; 8:30 a.m.-5:00 p.m.; April 13, 2017; 8:30 a.m.-2:00 p.m.

Place: National Science Foundation, 4201 Wilson Blvd., Stafford I, Room 1235, Arlington, Virginia 22230.

Type of Meeting: Open.

Contact Person: Melissa Lane, National Science Foundation, Suite 705, 4201 Wilson Blvd., Arlington, Virginia 22230; Phone: 703-292-8500.

Minutes: May be obtained from the contact person listed above.

Purpose of Meeting: To provide advice, recommendations, and oversight on support for geoscience research and education including atmospheric, geo-space, earth, ocean and polar sciences.

Agenda

April 12, 2017; 8:30 a.m.-5:00 p.m. Directorate and NSF activities and plans, Division/Office Updates, Presentation on Broader Impacts by Susan Renoe, Director, Broader Impacts Network, University of Missouri Meeting with the NSF Director and CIO.

April 13, 2017; 8:30 a.m.-2:00 p.m. Division/Office Updates, Discussion of NSF Response to NRC Geospace Portfolio Review, Action Items/Planning for Spring 2017 Meeting.

Dated: February 27, 2017.
Crystal Robinson,
Committee Management Officer.

[FR Doc. 2017-04051 Filed 3-1-17; 8:45 am]

BILLING CODE 7555-01-P